ENVIRONMENTAL PROTECTION AGENCY

[EPA-R07-SFUND-2013-0462; FRL-9833-3]

Proposed Administrative Cost Recovery Settlement Under the Comprehensive Environmental Response Compensation and Liability Act, as Amended, Carter Carburetor Superfund Site, St. Louis, Missouri

AGENCY: Environmental Protection Agency (EPA).

ACTION: Notice; request for public comment.

SUMMARY: In accordance with Section 122(i) of the Comprehensive Environmental Response Compensation and Liability Act, as amended (CERCLA), notice is hereby given of a proposed administrative settlement with ACF Industries, LLC, St. Louis, Missouri, for the compromise of past and projected future oversight costs concerning the Carter Carburetor Superfund Site in St. Louis, Missouri. The settlement includes a covenant not to sue with the settling party pursuant to Section 107(a) of CERCLA. For thirty (30) days following the date of publication of this notice, EPA will receive written comments relating to the compromise of costs component of the settlement. EPA will consider all comments and may modify or withdraw its consent to the settlement if comments received disclose facts or considerations which indicate that the compromise of costs is inappropriate, improper, or inadequate. EPA's response to any comments received will be available for public inspection at the EPA Region 7 office located at 11201 Renner Boulevard, Lenexa, Kansas 66219.

DATES: Comments must be submitted on or before August 19, 2013.

ADDRESSES: The proposed settlement is available for public inspection at the EPA Region 7 office, 11201 Renner Boulevard, Lenexa, Kansas, Monday through Friday, between the hours of 8:00 a.m. through 4:00 p.m. A copy of the proposed settlement may be obtained from the Regional Hearing Clerk, 11201 Renner Boulevard, Lenexa, Kansas 66219, (913) 551-7567. Requests should reference the Carter Carburetor Superfund Site, EPA Docket No. CERCLA-07-2013-0008. Comments should be addressed to: J. Scott Pemberton, Senior Assistant Regional Counsel, 11201 Renner Boulevard, Lenexa, Kansas 66219.

FOR FURTHER INFORMATION CONTACT: J. Scott Pemberton, at telephone: (913) 551-7276; fax number: (913) 551-7925/Attn: J. Scott Pemberton; email address: pemberton.scott@epa.gov.

Dated: June 26, 2013.
Cecilia Tapia,
Director, Superfund Division, EPA Region 7.

[FR Doc. 2013-17304 Filed 7-17-13; 8:45 am]

BILLING CODE 6560-50-P